DEPARTMENT OF ENERGY

Federal Energy Regulatory Commission

[Project Nos. 14540-000 and 14539-000]

Western Minnesota Municipal Power Agency, Lock+™ Hydro Friends Fund III, LLC; Notice of Competing Preliminary Permit Applications Accepted for Filing and Soliciting Comments, Motions To Intervene, and Competing Applications

On July 23, 2013, Western Minnesota Municipal Power Agency (Western Minnesota) and Lock+™ Hydro Friends Fund III, LLC (Hydro Friends) filed preliminary permit applications, pursuant to section 4(f) of the Federal Power Act, proposing to study the feasibility of a hydropower project at the existing U.S. Army Corps of Engineers' (Corps) Melvin Price Lock and Dam, located on the Mississippi River near the City of Alton, Illinois, in Madison County, Illinois, and St. Charles County, Missouri. The sole purpose of a preliminary permit, if issued, is to grant the permit holder priority to file a license application during the permit term. A preliminary permit does not authorize the permit holder to perform any land-disturbing activities or otherwise enter upon lands or waters owned by others without the owners' express permission.

Western Minnesota's proposed Melvin Price Lock and Dam Hydroelectric Project No. 14540-000 would consist of: (1) Six 110-foot-wide, approximately 110-foot-long steel structures placed immediately downstream of the existing tainter gates 4 through 9 (one steel structure per gate) containing arrays of micro-turbines and pinned between new 60-foot-long, 72-foot-high concrete piers extending downstream of the existing piers; (2) a 150-foot by 150-foot substation located next to the dam on the Missouri side of the river that would step-up the project voltage from 13.8 kilovolts (kV) to 138 kV; (3) a 138 kV, 1.07-miles-long transmission line connecting the project substation to an existing substation on the Illinois side of the river; and (4) appurtenant facilities. Western Minnesota has not decided on a micro-turbine supplier but states that the capacity of the project would be based on an established flow and head condition. At a mean water head of 14.7 feet and a flow of 72,600 cubic feet per second (cfs) flowing through the project, each steel structure assembly would produce 15.5 megawatts (MW) resulting in a project rated capacity of 93.0 MW. At a maximum operating head of 20.0 feet, the anticipated flow through the project would be 85,800 cfs producing 24.9 MW per steel structure assembly or 149.4 MW for the project. The estimated average annual generation would be 445.4 gigawatt-hours. The project would occupy 16 acres of Federal Lands owned by the Corps, and operate run-of-river.

Applicant contact: Mr. Raymond J. Wahle, P.E., Missouri River Energy Services, 3724 W. Avera Drive, P.O. Box 88920, Sioux Falls, SD 57109. Phone: (605) 330-6963.

Hydro Friends' Melvin Price Locks and Dam Hydroelectric Project No. 14539-000 would consist of: (1) A 750-foot-long, 22-foot-wide, 66-foot-high Large Frame Module (LFM) enclosed in a powerhouse and containing 50 turbines each having a diameter of 8 feet and a nameplate capacity of 1.5 MW for a total system capacity of 75 MW; (2) flow control door assemblies installed in front of the LFM that can close off flow in case a suspension of generation is required; (3) a 750-foot-wide, 550-foot-long tailrace; (4) a 69 kV or 115 kV, 4.8-miles-long transmission line connecting the project power to an existing substation; and (5) appurtenant facilities. The estimated average annual generation would be 427,050 gigawatt-hours. The project would occupy Federal Lands owned by the Corps, and operate run-of-river.

Applicant contact: Mr. Mark R. Stover, Vice President, Corporate Affairs, Hydro Green Energy, LLC, 900 Oakmont Lane, Suite 301, Westmont, IL 60559. Phone: (877) 556-6566, extension 711.

FERC contact: Sergiu Serban, sergiu.serban@ferc.gov. Phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14540-000 and P-14539-000.

More information about this project, including a copy of the application, can be viewed or printed on the “eLibrary” link of the Commission's Web site at http://www.ferc.gov/docs-filing/elibrary.asp. Enter the docket number (P-14540-000, or P-14539-000) in the docket number field to access the document. For assistance, contact FERC Online Support.

Dated: September 11, 2013.
Kimberly D. Bose,
Secretary.

[FR Doc. 2013-22576 Filed 9-16-13; 8:45 am]

BILLING CODE 6717-01-P